DEPARTMENT OF ENERGY

Federal Energy Regulatory Commission

[Docket No. ER01-1279-000, et al.]

Connecticut Energy Cooperative, Inc., et al.; Electric Rate and Corporate Regulation Filings

February 27, 2001.

Take notice that the following filings have been made with the Commission:

1. Connecticut Energy Cooperative, Inc.

[Docket No. ER01-1279-000]

Take notice that on February 20, 2001, Connecticut Energy Cooperative, Inc. (the Co-op), petitions the Commission for acceptance of Co-op Rate Schedule FERC No. 1; the granting of certain blanket approvals, including the authority to sell electricity at market-based rates; and the waiver of certain Commission Regulations.

The Co-op intends to engage in wholesale electric power and energy purchases and sales as a marketer. The Co-op is not in the business of generating or transmitting electric power. The Co-op is a privately owned business with no corporate parents or affiliates.

Comment date: March 13, 2001, in accordance with Standard Paragraph E at the end of this notice.

2. Carolina Power & Light Company

[Docket No. ER00-1491-001]

Take notice that on February 20, 2001, Carolina Power & Light Company (CP&L), re-filed the Service Agreement with Allegheny Energy Supply Company, LLC in this Docket.

CP&L is requesting an effective date of January 20, 2000 for this agreement.

Copies of the filing were served upon the North Carolina Utilities Commission and the South Carolina Public Service Commission.

Comment date: March 13, 2001, in accordance with Standard Paragraph E at the end of this notice.

3. American Electric Power Service Corporation

[Docket No. ER01-1280-000]

Take notice that on February 20, 2001, the American Electric Power Service Corporation (AEPSC), tendered for filing an executed Interconnection and Operation Agreement between Ohio Power Company and Duke Energy Hanging Rock, LLC. The agreement is pursuant to the AEP Companies' Open Access Transmission Service Tariff (OATT) that has been designated as the Operating Companies of the American Electric Power System FERC Electric Tariff Revised Volume No. 6, effective June 15, 2000.

AEP requests an effective date of March 1, 2001.

A copy of the filing was served upon the Ohio Public Utilities Commission.

Comment date: March 13, 2001, in accordance with Standard Paragraph E at the end of this notice.

4. Southern Company Services, Inc.

[Docket No. ER01-1281-000]

Take notice that on February 20, 2001, Southern Company Services, Inc. (SCS), acting on behalf of Alabama Power Company (APC), tendered for filing an Interconnection Agreement (IA) by and between APC and GenPower Kelley, L.L.C. (GenPower). The IA allows GenPower to interconnect its generating facility to be located in Walker County, Alabama, to APC's electric system.

An effective date of February 19, 2001 has been requested.

Comment date: March 13, 2001, in accordance with Standard Paragraph E at the end of this notice.

5. Southern Company Services, Inc.

[Docket No. ER01-1282-000]

Take notice that on February 20, 2001, Southern Company Services, Inc. (SCS), acting on behalf of Alabama Power Company, Georgia Power Company, Gulf Power Company, Mississippi Power Company (MPC), and Savannah Electric and Power Company (collectively referred to as Southern Companies), tendered for filing an agreement for network integration transmission service between Southern Companies and Southern Wholesale Energy, a department of SCS, as agent for MPC, under the Open Access Transmission Tariff of Southern Company (FERC Electric Tariff, Fourth Revised Volume No. 5) for the delivery of power to the Aleco Fire Tower Road Substation of Singing River EPA, a member cooperative of South Mississippi Electric Power Association (SMEPA). This agreement is being filed in conjunction with a power sale by SCS, as agent for MPC, to SMEPA under Southern Companies' Market-Based Rate Power Sales Tariff.

Comment date: March 13, 2001, in accordance with Standard Paragraph E at the end of this notice.

6. Xcel Energy Services, Inc.

[Docket No. ER01-1283-000]

Take notice that on February 20, 2001, Xcel Energy Services, Inc. (XES), on behalf of Public Service Company of Colorado (Public Service), tendered for filing the Master Power Purchase and Sale Agreement between Public Service and Colorado River Commission, which is an umbrella service agreement under Public Service's Rate Schedule for Market-Based Power Sales (Public Service FERC Electric Tariff, First Revised Volume No. 6).

XES requests that this agreement become effective on February 1, 2001.

Comment date: March 13, 2001, in accordance with Standard Paragraph E at the end of this notice.

7. Mississippi Power Company

[Docket No. ER01-1284-000]

Take notice that on February 20, 2001, Mississippi Power Company and Southern Company Services, Inc., its agent, tendered for filing a Service Agreement with South Mississippi Electric Power Association for twelve (12) Delivery Points, pursuant to the Southern Companies' Electric Tariff, FERC Electric Tariff, First Revised Volume No. 4. The agreement will permit Mississippi Power to provide wholesale electric service to South Mississippi Electric Power Association at the new service delivery points.

Copies of the filing were served upon South Mississippi Electric Power Association, the Mississippi Public Service Commission, and the Mississippi Public Utilities Staff.

Comment date: March 13, 2001, in accordance with Standard Paragraph E at the end of this notice.

8. Consumers Energy Company

[Docket No. ER01-1285-000]

Take notice that on February 20, 2001, Consumers Energy Company (Consumers), tendered for filing a Letter Agreement Between Mirant Zeeland, L.L.C. (Customer) and Consumers, dated February 5, 2001, (Agreement). Under the Agreement, Consumers is to perform certain preliminary activities associated with providing an electrical connection between Customer's generating plant and Consumers' transmission system.

Consumers requested that the Agreement be allowed to become effective February, 5, 2001.

Copies of the filing were served upon Customer and the Michigan Public Service Commission.

Comment date: March 13, 2001, in accordance with Standard Paragraph E at the end of this notice.

9. PJM Interconnection, L.L.C.

[Docket No. ER01-1286-000]

Take notice that on February 20, 2001, PJM Interconnection, L.L.C. (PJM), tendered for filing a request to amend the Amended and Restated Operating Agreement of PJM Interconnection, L.L.C. (Operating Agreement) to waive for this year the requirement of Section 7.1 of the Operating Agreement that PJM retain an independent consultant to propose candidates for the two seats on PJM's Board of Managers (“PJM Board”) for which an election is required at PJM's 2001 Annual Meeting. PJM states that the PJM Members Committee has approved the requested amendment.

PJM requests that its filing become effective on April 22, 2001.

Copies of this filing were served upon all PJM members and all electric utility regulatory commissions in the PJM control area.

Comment date: March 13, 2001, in accordance with Standard Paragraph E at the end of this notice.

10. Entergy Services, Inc.

[Docket No. ER01-1287-000]

Take notice that on February 20, 2001, Entergy Services, Inc., as agent for System Energy Resources, Inc. and Entergy Arkansas, Inc., tendered, pursuant to Section 205 of the Federal Power Act, a revised Appendix B to the Grand Gulf Accelerated Recovery Tariff (GGART-A) to reflect the termination of the amortization component of the GGART-A.

ESI requests an effective date of July 1, 2001.

A copy of this filing has been served upon the state regulators of the Entergy operating companies.

Comment date: March 13, 2001, in accordance with Standard Paragraph E at the end of this notice.

11. Kentucky Utilities Company

[Docket No. ER01-1288-000]

Take notice that on February 20, 2001, Kentucky Utilities Company (KU), tendered for filing information to establish a new interconnection point under FERC Rate Schedule 203, the Interconnection Agreement between KU and East Kentucky Power Cooperative.

Comment date: March 13, 2001, in accordance with Standard Paragraph E at the end of this notice.

12. New England Power Pool

[Docket No. ER01-1289-000]

Take notice that on February 20, 2001, the New England Power Pool (NEPOOL) Participants Committee filed for acceptance materials to terminate the NEPOOL membership of Alternate Power Source, Inc. (APS) as of March 5, 2001 unless APS cures its existing defaults. The NEPOOL Participants Committee states that APS has suspended its participation in the NEPOOL markets pending the earlier of a cure of its defaults or the effectiveness of its termination from the Pool.

The Participants Committee states that copies of these materials were sent to the New England state governors and regulatory commissions and the Participants in NEPOOL.

Comment date: March 13, 2001, in accordance with Standard Paragraph E at the end of this notice.

13. American Transmission Company

[Docket No. ER01-1290-000]

Take notice that on February 21, 2001, American Transmission Company LLC (ATCLLC), tendered for filing a revised Service Agreement No. 96 to include amended exhibits to the Distribution-Transmission Agreement between ATCLLC and Edison Sault Electric Company previously filed in this docket on December 27, 2000.

ATCLLC requests an effective date of January 1, 2001.

Comment date: March 14, 2001, in accordance with Standard Paragraph E at the end of this notice.

14. California Independent System Operator Corporation

[Docket No. ER01-1291-000]

Take notice that on February 21, 2001, the California Independent System Operator Corporation, tendered for filing an Amendment to Schedule 1 of the Participating Generator Agreement between the ISO and Energy 2001, Inc. (Energy 2001) for acceptance by the Commission.

The ISO states that this filing has been served on Energy 2001 and the California Public Utilities Commission.

The ISO is requesting waiver of the 60-day notice requirement to allow the Participating Generator Agreement to be made effective January 29, 2001.

Comment date: March 14, 2001, in accordance with Standard Paragraph E at the end of this notice.

15. UGI Power Supply, Inc.

[Docket No. ER01-1292-000]

Take notice that on February 21, 2001, UGI Power Supply, Inc. (UGI Power Supply), tendered for filing a notice of cancellation of its Rate Schedule FERC No. 1, pursuant to section 205 of the Federal Power Act, 16 U.S.C. 824d (1994), and Section 35.15 of the Commission's regulations, 18 CFR 35.15.

UGI Power Supply proposes that this cancellation become effective as of April 22, 2001.

Comment date: March 14, 2001, in accordance with Standard Paragraph E at the end of this notice.

16. Allegheny Energy Service Corporation, on Behalf of Monongahela Power Company, The Potomac Edison Company, and West Penn Power Company (Allegheny Power)

[Docket No. ER01-1293-000]

Take notice that on February 21, 2001, Allegheny Energy Service Corporation on behalf of Monongahela Power Company, The Potomac Edison Company and West Penn Power Company (Allegheny Power), tendered for filing Service Agreement Nos. 342 and 343 to add Ameren Energy Marketing Company to Allegheny Power's Open Access Transmission Service Tariff which has been accepted for filing by the Federal Energy Regulatory Commission in Docket No. ER96-58-000.

The proposed effective date under the Service Agreements is February 20, 2001 or a date ordered by the Commission.

Copies of the filing have been provided to the Public Utilities Commission of Ohio, the Pennsylvania Public Utility Commission, the Maryland Public Service Commission, the Virginia State Corporation Commission, and the West Virginia Public Service Commission.

Comment date: March 14, 2001, in accordance with Standard Paragraph E at the end of this notice.

17. Idaho Power Company

[Docket No. ER01-1294-000]

Take notice that on February 21, 2001, Idaho Power Company (Idaho Power), tendered for filing a long-term service agreement under its open access transmission tariff in the above-captioned proceeding.

Idaho Power requests the Commission accept this Service Agreement for filing and designate an effective date of April 1, 2001.

Comment date: March 14, 2001, in accordance with Standard Paragraph E at the end of this notice.

18. Cleco Power LLC

[Docket No. ER01-1295-000]

Take notice that on February 21, 2001, Cleco Power LLC (Cleco), tendered for filing under Section 205 of the Federal Power Act a Phase-Shifting Transformer Funding Agreement between Cleco and Acadia Power Partners, LLC. The agreement provides for the terms and conditions under which Cleco will construct a phase-shifting transformer at Cleco's Beaver Creek substation.

Comment date: March 14, 2001, in accordance with Standard Paragraph E at the end of this notice.

19. Southwest Power Pool, Inc.

[Docket No. ER01-1296-000]

Take notice that on February 21, 2001, Southwest Power Pool, Inc. (SPP), tendered for filing an enclosed Interconnection and Operating Agreement (Agreement) between WFEC GENCO L.L.C. (Genco), Western Farmers Electric Cooperative (WFEC), and SPP.

SPP seeks an effective date of February 22, 2001, for this Agreement.

Copies of this filing were served on Genco and WFEC.

Comment date: March 14, 2001, in accordance with Standard Paragraph E at the end of this notice.

20. California Independent System Operator Corporation

[Docket No. ER01-1297-000]

Take notice that on February 21, 2001, the California Independent System Operator Corporation, tendered for filing an Amendment to Schedule 1 of the Participating Generator Agreement between the ISO and Sierra Pacific Industries (Sierra Pacific) for acceptance by the Commission.

The ISO states that this filing has been served on Sierra Pacific and the California Public Utilities Commission.

The ISO is requesting waiver of the 60-day notice requirement to allow the Participating Generator Agreement to be made effective January 26, 2001.

Comment date: March 14, 2001, in accordance with Standard Paragraph E at the end of this notice.

21. Duquesne Light Company

[Docket No. ER01-1298-000]

Take notice that February 22, 2001, Duquesne Light Company (DLC) filed a Service Agreement dated February 21, 2001 with Dynegy Power Marketing, Inc. under DLC's Open Access Transmission Tariff (Tariff). The Service Agreement adds Dynegy Power Marketing, Inc. as a customer under the Tariff.

DLC requests an effective date of February 21, 2001 for the Service Agreement.

Comment date: March 15, 2001, in accordance with Standard Paragraph E at the end of this notice.

22. Public Service Company of New Mexico

[Docket No. ER01-1299-000]

Take notice that on February 22, 2001, Public Service Company of New Mexico (PNM) filed a Notice of Cancellation with the Federal Energy Regulatory Commission with respect to Rate Schedule FERC No. 75. By its terms, the Public Service Company of New Mexico and San Diego Gas & Electric Company 1988-2001 100 MW System Power Agreement on file as PNM Rate Schedule FERC No. 75, is to terminate on April 30, 2001.

Consistent with this agreement, PNM requests that cancellation of the related rate schedule become effective on April 30, 2001.

A copy of the filing has been served upon San Diego Gas & Electric Company and an informational copy was provided to the New Mexico Public Regulation Commission. The Notice of Cancellation has been posted and is available for public inspection during normal business hours at PNM's offices in Albuquerque, New Mexico.

Comment date: March 15, 2001, in accordance with Standard Paragraph E at the end of this notice.

23. Whiting Clean Energy, Inc.

[Docket No. ER01-1300-000]

Take notice that on February 22, 2001, Whiting Clean Energy, Inc. (WCE), an indirect wholly owned subsidiary of NiSource Inc., tendered for filing its FERC Electric Rate Schedule 1 and a Statement of Policy and Code of Conduct.

WCE seeks an effective date of April 25, 2001 for the tariff sheets submitted with this filing.

WCE states that it meets all requirements to sell electric energy and capacity at market based rates. In addition, WCE states Statement of Policy and Code of Conduct meets all Commission requirements regarding transactions and relationships with its franchised public utility affiliates.

Comment date: March 15, 2001, in accordance with Standard Paragraph E at the end of this notice.

24. International Transmission Company and Michigan Electric Transmission Company

[Docket No. ER01-1301-000]

Take notice that on February 22, 2001, International Transmission Company (ITC) and Michigan Electric Transmission Company (Michigan Transco) tendered for filing a Joint Open Access Transmission Tariff (JOATT) which is to supersede and replace the Consumers Energy Company's (Consumers) and ITC's existing JOATT (Consumers/ITC's FERC Electric Tariff, Original Volume No. 1). The new JOATT reflects the transfer of Consumers' transmission assets to Michigan Transco.

Copies of the filing were served upon all customers under the Consumers/ITC JOATT and upon the Michigan Public Service Commission.

Comment date: March 15, 2001, in accordance with Standard Paragraph E at the end of this notice.

25. American Ref-Fuel Company of Niagara, L.P.

[Docket No. ER01-1302-000]

Take notice that on February 22, 2001, American Ref-Fuel Company of Niagara, L.P. submitted for filing, pursuant to Section 205 of the Federal Power Act, and Part 35 of the Commission's regulations, a Petition for authorization to make sales of electric capacity and energy at market-based rates and for related waivers and blanket authorizations.

Comment date: March 15, 2001, in accordance with Standard Paragraph E at the end of this notice.

26. International Transmission Company

[Docket No. ER01-1303-000]

Take notice that on February 22, 2001, International Transmission Company submitted for filing an unexecuted Interconnection Agreement with Dearborn Industrial Generation, L.L.C.

Comment date: March 15, 2001, in accordance with Standard Paragraph E at the end of this notice.

27. Pacific Gas and Electric Company

[Docket No. ER01-1304-000]

Take notice that on February 22, 2001, Pacific Gas and Electric Company (PG&E) tendered for filing Agreements between PG&E and Calpine Construction Finance Company, L.P. (Calpine) on behalf of Los Medanos Energy Center (LMEC), which Agreements include: a Generator Special Facilities Agreement (GSFA); a Letter Agreement Supplementing, Clarifying, and Modifying the Generator Special Facilities Agreement between Pacific Gas and Electric Company and Calpine Construction Finance Company, L.P. on behalf of Los Medanos Energy Center (Supplemental Letter Agreement); and a Letter Agreement Documenting Revised System Upgrade Work for the Los Medanos Energy Center and Notice to Proceed (Documenting Letter Agreement).

The GSFA permits PG&E to recover the ongoing costs associated with installing, owning, operating and maintaining Special Facilities necessary for the interconnection of LMEC to the PG&E transmission system. The Supplemental Letter Agreement and the Documenting Letter Agreement clarify and replace language in the GSFA. The Supplemental Letter Agreement further establishes the intent of the parties with respect to the rates and rate methodology set forth in the agreements, and the Documenting Letter Agreement provides the Notice to Proceed for PG&E to commence construction.

Copies of this filing have been served upon LMEC, Calpine, the California Independent System Operator, and the California Public Utilities Commission (CPUC).

Comment date: March 15, 2001, in accordance with Standard Paragraph E at the end of this notice.

28. Bethlehem Steel Corporation

[Docket No. ER01-1312-000]

Take notice that on February 22, 2001, Bethlehem Steel Corporation (Bethlehem) petitioned the Commission for acceptance of Bethlehem Rate Schedule FERC No. 1; the granting of certain blanket approvals, including the authority to sell electricity at market-based rates; and the waiver of certain Commission regulations.

Bethlehem intends to engage in wholesale electric power and energy purchases and sales as a marketer. Bethlehem is a Delaware corporation headquartered in Bethlehem, Pennsylvania. Bethlehem and its affiliates are engaged in the production of a wide variety of steel mill products and Bethlehem owns generation facilities in Maryland, New York, and Indiana.

Comment date: March 15, 2001, in accordance with Standard Paragraph E at the end of this notice.

29. New England Power Pool

[Docket No. ER01-1313-000]

Take notice that on February 22, 2001, the New England Power Pool (NEPOOL) Participants Committee submitted revisions to Market Rule 5 relating to eligibility for units to receive Uplift payments.

It is requested that the revisions become effective on the earlier of two days following a Commission order approving the changes, or April 23, 2001, sixty days after the filing.

The Participants Committee states that copies of these materials were sent to the New England state governors and regulatory commissions and the Participants in NEPOOL.

Comment date: March 15, 2001, in accordance with Standard Paragraph E at the end of this notice.

30. American Electric Power Service Corporation

[Docket No. OA01-4-000]

Take notice that on February 20, 2001, American Electric Power Service Corporation, on behalf of the operating companies of the American Electric Power System (AEP) submitted for filing updated Procedures for Implementation of FERC Standards of Conduct.

AEP requests an effective date of February 20, 2001.

Copies of AEP's filing have been served upon AEP's transmission customers and the public service commissions of Arkansas, Indiana, Kentucky, Louisiana, Michigan, Ohio, Tennessee, Texas, Virginia and West Virginia and the Oklahoma Corporation Commission.

Comment date: March 22, 2001, in accordance with Standard Paragraph E at the end of this notice.

31. Sempra Energy

[Docket No. ER01-1193-000]

Take notice that on February 16, 2001, Sempra Energy tendered for filing a request for withdrawal of its February 7, 2001, Petition for Waivers, and Blanket approvals in the above-referenced docket.

Comment date: March 9, 2001, in accordance with Standard Paragraph E at the end of this notice.

32. PacifiCorp

[Docket No. ER01-814-001]

Take notice that on February 22, 2001, PacifiCorp tendered for filing, an amendment to its original filing in accordance with 18 CFR Part 35 of the Commission's Rules and Regulations.

Copies of this filing were supplied to the Washington Utilities and Transportation Commission and the Public Utility Commission of Oregon.

Comment date: March 15, 2001, in accordance with Standard Paragraph E at the end of this notice.

33. Illinois Power Company and Dynegy Midwest Generation, Inc.

[Docket No. EC01-71-000]

Take notice that on February 22, 2001, Illinois Power Company (Illinois Power) and Dynegy Midwest Generation, Inc. (Dynegy Midwest) filed a joint application under Section 203 of the Federal Power Act requesting the Commission to authorize the indirect transfer of generation-related facilities consisting of generator step-up and station power transformers with associated generation lead lines, switches, circuit breakers and foundations from Illinois Power to Dynegy Midwest.

Comment date: March 15, 2001, in accordance with Standard Paragraph E at the end of this notice.

34. Entergy Services, Inc.

[Docket No. ER01-894-002]

Take notice that on February 20, 2001, Entergy Services, Inc. (Entergy), on behalf of the Entergy Operating Companies, tendered for filing the Third Revised Network Integration Transmission Service Agreement (NITSA) between Entergy and East Texas Electric Cooperative, Inc., Sam Rayburn G&T Electric Cooperative, Inc., and Tex-La Electric Cooperative, Inc., as an amendment to its January 5, 2001 filing in Docket No. ER01-894-000. The Third Revised NITSA adds the Line No. 81 Settlement Agreement between Jasper-Newton Electric Cooperative, Inc. and Entergy, dated February 1, 2001, to the NITSA.

Comment date: March 13, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 01-5335 Filed 3-5-01; 8:45 am]

BILLING CODE 6717-01-P